DEPARTMENT OF ENERGY

Federal Energy Regulatory Commission

Notice of Application for Transfer of Licenses and Soliciting Comments and Motions To Intervene

STS Hydropower Ltd.

STS Hydropower, LLC

Project Nos. 2411-027, 2446-049, 3819-011, 7120-063, 7242-059, and 9951-054

On May 19, 2017, STS Hydropower Ltd. (transferor) and STS Hydropower, LLC (transferee) filed an application for transfer of licenses for the following projects.

Project No. | Project names | Locations
P-2411-027 | Schoolfield Project | Dan River, Pittsylvania County, VA.
P-2446-049 | Dixon Project | Rock River, Lee County, IL.
P-3819-011 | Mt. Elbert Water Power Project | Mt. Elbert Conduit, Lake County, CO.
P-7120-063 | Kekawaka Creek Project | Kekawaka Creek, tributary to the Eel River, Trinity and Humboldt counties, CA.
P-7242-059 | Kanaka Project | Sucker Run Creek, tributary of the South Fork Feather River, Butte County, CA.
P-9951-054 | French Landing Hydro Water Power Project | Huron River, Wayne County, MI.

The transferor and transferee seek Commission approval to transfer the licenses for the above mentioned projects from the transferor to the transferee.

Applicant Contacts: For Transferor and Transferee: Mr. Bernard Cherry, Eagle Creek Renewable Energy, LLC, 65 Madison Avenue, Morristown, NJ 07960, Phone: 973-998-8400, email: Bud.cherry@eaglecreekre.com and Mr. Donald H. Clarke and Mr. Joshua E. Adrian, Duncan, Weinberg, Genzer & Pembroke, P.C., 1615 M Street NW., Washington, DC 20036, Phone: 202-467-6370, Emails: dhc@dwgp.com and jea@dwgp.com.

FERC Contact: Patricia W. Gillis, (202) 502-8735.

Deadline for filing comments and motions to intervene: 30 days from the issuance date of this notice, by the Commission. The Commission strongly encourages electronic filing. Please file motions to intervene and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number(s) P-2411-027, P-2446-049, P-3819-011, P-7120-063, P-7242-059, or P-9951-054.

Dated: June 21, 2017.
Nathaniel J. Davis, Sr.,
Deputy Secretary.

[FR Doc. 2017-13385 Filed 6-26-17; 8:45 am]

BILLING CODE 6717-01-P